COMMITTEE FOR PURCHASE FROM PEOPLE WHO ARE BLIND OR SEVERELY DISABLED

Procurement List, Additions and Deletions

AGENCY: Committee for Purchase From People Who Are Blind or Severely Disabled.

ACTION: Additions to and deletions from the Procurement List

SUMMARY: This action adds to the Procurement List a commodity and services to be furnished by nonprofit agencies employing persons who are blind or have other severe disabilities, and deletes from the Procurement List commodities and services previously furnished by such agencies.

EFFECTIVE DATE: April 17, 2000.

ADDRESSES: Committee for Purchase From People Who Are Blind or Severely Disabled, Crystal Gateway 3, Suite 310, 1215 Jefferson Davis Highway, Arlington, Virginia 22202-4302.

FOR FURTHER INFORMATION CONTACT: Louis R. Bartalot (703) 603-7740.

SUPPLEMENTARY INFORMATION: On October 8, and 22, November 29, and December 27, 1999 and January 3 and February 4, 2000, the Committee for Purchase From People Who Are Blind or Severely Disabled published notices (64 FR 54862, 57031, 66611, 72312, and 65 FR 115, 5492 and 5493) of proposed additions to and deletions from the Procurement List:

Additions

After consideration of the material presented to it concerning capability of qualified nonprofit agencies to provide the commodity and services and impact of the additions on the current or most recent contractors, the Committee has determined that the commodity and services listed below are suitable for procurement by the Federal Government under 41 U.S.C. 46-48c and 41 CFR 51-2.4.

I certify that the following action will not have a significant impact on a substantial number of small entities. The major factors considered for this certification were:

1. The action will not result in any additional reporting, recordkeeping or other compliance requirements for small entities other than the small organizations that will furnish the commodity and services to the Government.

2. The action will not have a severe economic impact on current contractors for the commodity and services.

3. The action will result in authorizing small entities to furnish the commodity and services to the Government.

4. There are no known regulatory alternatives which would accomplish the objectives of the Javits-Wagner-O'Day Act (41 U.S.C. 46-48c) in connection with the commodity and services proposed for addition to the Procurement List.

Accordingly, the following commodity and services are hereby added to the Procurement List:

Commodity

Bag, Waste Receptacle

8105-01-284-2924

Services

Base Supply Center, Camp Shelby, Mississippi, Mississippi Air National Guard at the following locations: Jackson, Mississippi, Meridian, Mississippi, Gulfport, Mississippi

Commissary Shelf Stocking, Custodial and Warehousing, Fort Hamilton Commissary, Brooklyn, New York

Food Service Attendant, Air National Guard Base, 50 Sabre Street, Battle Creek, Michigan

Grounds Maintenance, U.S. Army Reserve Center, Worcester, Massachusetts

Janitorial/Custodial, 126th Air Refueling Wing, Scott Air Force Base, Illinois

Janitorial/Custodial, U.S. Army Reserve Center, OMS, Kittaning, Kittanning, Pennsylvania

Operation of Individual Equipment Element Store and HAZMART, Travis Air Force Base, California

Operation of Individual Equipment Element Store and HAZMART, Dover Air Force Base, Delaware

Operation of Individual Equipment Element Store and HAZMART, Fairchild Air Force Base, Washington

Telephone Switchboard Operations, Dyess Air Force Base, Texas

This action does not affect current contracts awarded prior to the effective date of this addition or options that may be exercised under those contracts.

Deletions

I certify that the following action will not have a significant impact on a substantial number of small entities. The major factors considered for this certification were:

1. The action may not result in any additional reporting, recordkeeping or other compliance requirements for small entities.

2. The action will not have a severe economic impact on future contractors for the commodities and services.

3. The action may result in authorizing small entities to furnish the commodities and services to the Government.

4. There are no known regulatory alternatives which would accomplish the objectives of the Javits-Wagner-O'Day Act (41 U.S.C. 46-48c) in connection with the commodities and services deleted from the Procurement List.

After consideration of the relevant matter presented, the Committee has determined that the commodities and services listed below are no longer suitable for procurement by the Federal Government under 41 U.S.C. 46-48c and 41 CFR 51-2.4.

Accordingly, the following commodities and services are hereby deleted from the Procurement List:

Commodities

Amplifier Subassembly

5831-00-087-3408

Specimen Kit, Urine

6530-00-075-6636

Aerosol Paint, Lacquer

8010-00-721-9483

Enamel, Lacquer

8010-00-616-9144

8010-00-852-9034

8010-00-878-5761

8010-00-782-9356

8010-00-764-8434

Enamel, Aerosol, Waterbase

8010-01-363-1632

Services

Commissary Shelf Stocking, Naval Training Center, San Diego, California

Commissary Shelf Stocking and Custodial, Oakland Army Base, Oakland, California

Food Service, McClellan Air Force Base, California

Grounds Maintenance, Oakland Fleet Industrial Supply Center, Oakland, California

Grounds Maintenance

Naval Station, Treasure Island, California

Grounds Maintenance, Mare Island Naval Complex and Roosevelt Terrace, (Except the Combat Systems Technical School Command), Mare Island Naval Shipyard, Vallejo, California

Janitorial/Custodial, Naval Supply Center for the following locations in Alameda, California: DRMO Buildings 4 & 5 (Floor 1), Defense Subsistence Region Pacific, Warehouse 1, Building 6 (Floors 1 & 2), Building 7, Naval Regional Contracting Center, Building 6 (Floor 2)

Janitorial/Custodial, Naval Air Reserve, Moffett Field, California

Janitorial/Grounds Maintenance, U.S. Federal Building, 823 Marin Street, Vallejo, California

Painting Service, McClellan Air Force Base, California

Vehicle Maintenance, McClellan Air Force Base, California

Leon A. Wilson, Jr.,
Executive Director.

[FR Doc. 00-6669 Filed 3-16-00; 8:45 am]

BILLING CODE 6353-01-U